INTERNATIONAL TRADE COMMISSION

[USITC SE-06-001]

Sunshine Act Meeting

Agency Holding the Meeting: United States International Trade Commission.

Time and Date: January 13, 2006 at 1 p.m.

Place: Room 101, 500 E Street, SW., Washington, DC 20436, Telephone: (202) 205-2000.

Status: Open to the public.

Matters to be Considered:

1. Agenda for future meetings: None.

2. Minutes.

3. Ratification List.

4. Inv. Nos. 701-TA-302 and 731-TA-454 (Second Review) (Fresh and Chilled Atlantic Salmon from Norway)—briefing and vote. (The Commission is currently scheduled to transmit its determination and Commissioners' opinions to the Secretary of Commerce on or before January 27, 2006.)

5. Outstanding action jackets: None.

In accordance with Commission policy, subject matter listed above, not disposed of at the scheduled meeting, may be carried over to the agenda of the following meeting.

By order of the Commission.
Issued: January 3, 2006.
Marilyn R. Abbott,
Secretary to the Commission.

[FR Doc. 06-165 Filed 1-4-06; 12:53 pm]

BILLING CODE 7020-02-P